DEPARTMENT OF THE TREASURY

Submission for OMB Review; Comment Request

May 13, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before June 17, 2011 to be assured of consideration.

Internal Revenue Service (IRS)

OMB Number: 1545-NEW.

Type of Review: New collection.

Title: Request for Miscellaneous Determination.

Form: 8940.

Abstract: Form 8940 will standardize information collection procedures for nine categories of individually written requests for miscellaneous determinations now submitted to the Service by requestor letter. Respondents are exempt organizations.

Respondents: Private sector: Not-for-profit institutions.

Estimated Total Burden Hours: 28,959.

OMB Number: 1545-2196.

Type of Review: Extension without change of a currently approved collection.

Title: Notice 2011-3—Special Rules Relating to Funding Relief for Single-Employer Pension Plans under PRA 2010 and Notice 2010-83—Funding Relief for Multiemployer Defined Benefit Plans under PRA 2010.

Abstract: Notice 2010-83 provides guidance in the form of questions and answers for sponsors of multiemployer defined benefit plans with respect to the special funding rules under § 431(b)(8), as added by section 211(a)(2) of the Preservation of Access to Care for Medicare Beneficiaries and Pension Relief Act of 2010 (PRA 2010), Public Law 111 192. Notice 2011-3 provides guidance on the special rules relating to funding relief for single-employer defined benefit pension plans (including multiple employer defined benefit pension plans) under the Preservation of Access to Care for Medicare Beneficiaries and Pension Relief Act of 2010 (PRA 2010), Public Law 111-192.

Respondents: Private sector: Not-for-profit institutions.

Estimated Total Burden Hours: 30,530.

OMB Number: 1545-2198.

Type of Review: Extension without change of a currently approved collection.

Title: Credit for Small Employer Health Insurance Premiums.

Form: 8941.

Abstract: Form 8941 is the result of new legislation from the Patient Protection and Affordable Care Act. Form 8941 allows a small business to claim a tax credit for a percentage of the health insurance premiums paid by the employer. The tax credit became effective in 2010. Form 8941 is required by the employers as a way to claim the credit. The IRS will also need the form to gather information and process the tax credit.

Respondents: Private sector: Farms, Businesses or other for-profits, Not-for-profit institutions.

Estimated Total Burden Hours: 40,189,456.

OMB Number: 1545-2199.

Type of Review: Extension without change of a currently approved collection.

Title: Foreclosure Sale Purchaser Contact Information Request.

Form: 15597.

Abstract: This form is used to gather contact information of the purchaser from a 3rd party foreclosure sale when the IRS is considering the redemption of the property.

Respondents: Individuals or households; Private sector: Farms, Businesses or other for-profits, Not-for-profit institutions.

Estimated Total Burden Hours: 49.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-12239 Filed 5-17-11; 8:45 am]

BILLING CODE 4830-01-P